DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. chapter 35). To request a copy of these documents, call the SAMHSA Reports Clearance Officer on (240) 276-0361.

Project: SAMHSA's Publications and Digital Products Website Registration Surveys (OMB No. 0930-0313)—Revision

The Substance Abuse and Mental Health Services Administration (SAMHSA) is requesting OMB approval for a revision of SAMHSA's Publications and Digital Products website Registration Survey (OMB No. 0930-0313). SAMHSA is authorized under section 501(d)(16) of the Public Health Service Act (42 U.S.C. 290aa(d)(16)) to develop and distribute materials for the prevention, treatment, and recovery from mental and substance use disorders. To improve customer service and lessen the burden on the public to locate and obtain these materials, SAMHSA has developed a website that includes more than 500 free publications from SAMHSA and its component Agencies. These products are available to the public for ordering and download. When a member of the public chooses to order hard-copy publications, it is necessary for SAMHSA to collect certain customer information in order to fulfill the request. To further lessen the burden on the public and provide the level of customer service that the public has come to expect from product websites, SAMHSA has developed a voluntary registration process for its publication website that allows customers to create accounts. Through these accounts, SAMHSA customers are able to access their order histories and save their shipping addresses. During the website registration process, SAMHSA will also ask customers to provide optional demographic information that helps SAMHSA to evaluate the use and distribution of its publications and improve services to the public.

SAMHSA employs a web-based form for information collection to avoid duplication and unnecessary burden on customers who register for an account. Customer information is submitted electronically via web forms on the samhsa.gov domain. Customers can submit the web forms at their leisure or call SAMHSA's toll-free Call Center and an information specialist will submit the forms on their behalf. The electronic collection of information reduces the burden on the respondent and streamlines the data-capturing process. The following revisions were made to the SAMHSA Publications and Digital Products website Registration Survey:

• Revision of the SAMHSA Publications website Registration Survey Questions

• Addition of a SAMHSA Main Site Survey version

• Addition of a SAMHSA Store Survey version

SAMHSA estimates the burden of this information collection as follows:

Table 1—Estimated Annual Reporting Burden
| Number of respondents | Annual frequency per response | Total annual responses | Hours per response | Total hours
Website Registration Survey | 21,082 | 1 | 21,082 | .033 (2 min.) | 696

Written comments and recommendations for the proposed information collection should be sent within 30 days of publication of this notice to www.reginfo.gov/public/do/PRAMain . Find this particular information collection by selecting “Currently under 30-day Review—Open for Public Comments” or by using the search function.

Alicia Broadus,
Public Health Advisor.

[FR Doc. 2023-01074 Filed 1-19-23; 8:45 am]

BILLING CODE 4162-20-P